NATIONAL SCIENCE FOUNDATION

Notice of Permit Applications Received Under the Antarctic Conservation Act of 1978 (Public Law 95-541)

AGENCY: National Science Foundation

ACTION: Notice of Permit Applications Received under the Antarctic Conservation Act of 1978, Public Law 95-541.

SUMMARY: The National Science Foundation (NSF) is required to publish notice of permit applications received to conduct activities regulatred under the Antarctic Conservation Act of 1978. NSF has published regulations under the Antarctic Conservation Act at title 45 part 670 of the Code of Federal Regulations. This is the required notice of permit applications received.

DATES: Interested parties are invited to submit written data, comments, or views with respect to this permit application by August 15, 2005. This application may be inspected by interested parties at the Permit Office, address below:

ADDRESSES: Comments should be addressed to Permit Office, room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed y the Antarctic Conservation Act of 1978 (Public Law 95-541), as amended by the Antarctic Science, Tourism and Conservation Act of 1996, has developed regulations for the establishment of a permit system for various activities in Antarctica and designation of certain animals and certain geographic areas a requiring special protection. The regulations establish such a permit system to designate Antarctic Specially Protected Areas. The applications received area as follows:

1. Applicant

John Alan, Campbell, Permit Application No. 2006-017.

Activity for Which Permit Is Requested

Enter Antarctic Specially Protected Areas. The applicant proposes to enter the following protected sites: Back Door Bay, Cape Royds (ASPA #157), Cape Evans (ASPA #155), Cape Crozier (ASPA #124), Linneaus Terrace (ASPA #138), Cape Royds (ASPA #121), Discovery Hut, Hut Point (ASPA #158), Canada Glacier, Lake Fryxell (ASPA #131), and, Arrival Heights (ASPA #122). The applicant is a member of the Artists and Writers Program and plans to take photographs and paint pictures for an upcoming book on the early explorers and wishes to utilize the light and color and atmospheric conditions prevailing in the early part of the season. The applicant also plans to photograph Emperor penguins in the similar lighting conditions and before they leave the rookery.

Location

Back Door Bay, Cape Royds (ASPA #157), Cape Evans (ASPA #155), Cape Crozier (ASPA #124), Linneaus Terrace (ASPA #138), Cape Royds (ASPA #121), Discovery Hut, Hut Point (ASPA #158), Canada Glacier, Lake Fryxell (ASPA #131), and, Arrival Heights (ASPA #122)

Dates

August 20, 2005, to November 8, 2005.

Nadene G. Kennedy,
Permit Officer, Office of Polar Programs.

[FR Doc. 05-13949 Filed 7-14-05; 8:45 am]

BILLING CODE 7555-01-M